DEPARTMENT OF TRANSPORTATION

Federal Aviation Administration

14 CFR Part 71

[Docket No. FAA-2021-0991; Airspace Docket No. 21-ASO-7]

RIN 2120-AA66

Amendment and Establishment of Area Navigation (RNAV) Routes; Eastern United States

AGENCY: Federal Aviation Administration (FAA), DOT.

ACTION: Final rule.

SUMMARY: This action amends 3 low altitude United States Area Navigation (RNAV) routes, designated T-224, T-258, T-323, and establishes 9 new low altitude RNAV routes, designated T-404, T-406, T-410, T-412, T-414, T-423, T-425, T-427, and T-429, in the eastern United States. The routes enhance the efficiency of the National Airspace System (NAS) by expanding the availability of RNAV routing and supporting the transition of the NAS from ground-based to satellite-based navigation, under the VHF Omnidirectional Range (VOR) Minimum Operational Network (MON) program.

DATES: Effective date 0901 UTC, July 14, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

History

The FAA published a notice of proposed rulemaking for Docket No. FAA-2021-0991, in the Federal Register (86 FR 67373; November 26, 2021), amending 3, and establishing 10 low altitude RNAV routes in the eastern United States. Interested parties were invited to participate in this rulemaking effort by submitting written comments on the proposal. No comments were received.

United States RNAV are published in paragraph 6011 of FAA Order JO 7400.11F, dated August 10, 2021, and effective September 15, 2021, which is incorporated by reference in 14 CFR 71.1. The RNAV routes listed in this document would be subsequently published in FAA Order JO 7400.11.

Differences From the NPRM

The description of T-323 in the regulatory text of the NPRM differed from that contained in the preamble text. A number of points were inadvertently omitted from the route description and four points were incorrectly stated as removed from the route. Specifically, the LRSEY, GA, waypoint (WP) was not stated as added in the preamble discussion, but it was included in the regulatory text. The preamble incorrectly stated that the following four WPs would be removed from the route: BOBBR, GA; BIGNN, GA; ZADOT, TN; and WELLA, KY. However, as an unintended consequence, this would result in a higher minimum enroute altitude requirement for segments of the route, which would adversely affect efficiency. Therefore, these points are reinserted in the description of T-323 as described below.

The NPRM also proposed to establish T-408 to extend between the NOKIE, GA, WP, and the TBERT, SC WP. The FAA has decided to delay the implementation of T-408 until a later date, therefore T-408 is removed from this action.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by amending 3 low altitude RNAV routes, designated T-224, T-258, T-323, and establishing 9 new RNAV routes, designated T-404, T-406, T-410, T-412, T-414, T-423, T-425, T-427, and T-429, in the eastern United States. The purpose of the routes is to expand the availability of RNAV and improve the efficiency of the NAS by supporting the transition of the NAS from ground-based to satellite-based navigation, under the VOR MON program. The following is a general description of the proposed routes.

T-224: T-224 currently extends between the Palacios, TX, (PSX) VOR and Tactical Air Navigational System (VORTAC), and the Lake Charles, LA, (LCH) VORTAC. This amendment extends T-224 to the northeast to a new end point at the existing COLIN, VA, FIX. The amended route generally overlies VOR Federal airway V-20 between the Lake Charles VORTAC and the COLIN, VA, FIX. Due to the planned decommissioning of various VORs under the VOR MON Program, the following WPs are used in the T-224 description in place of the VORs. The SHWNN, TX, WP replaces the Beaumont, TX (BPT) VOR/Distance Measuring Equipment (DME). The Lake Charles VORTAC is replaced by the KNZLY, LA, WP. The DAFLY, LA, WP replaces the Lafayette, LA, (LFT) VORTAC. The KJAAY, LA, WP replaces the Reserve, LA, (RQR) VOR/DME. The WTERS, MS, WP replaces the Gulfport, MS, (GPT) VORTAC. The LYNRD, AL, WP replaces the SEMMES, AL, (SJI) VORTAC. The WIILL, AL, WP replaces the Monroeville, AL, (MCV) VORTAC. The MGMRY, AL, WP replaces the Montgomery, AL, (MGM) VORTAC. The RSVLT, GA, WP replaces the Columbus, GA, (CGS) VORTAC. The UGAAA, GA, WP replaces the Athens, GA, (AHN) VOR/DME. The ECITY, SC, WP replaces the Electric City, SC, (ELW) VORTAC. The STYLZ, NC, WP replaces the Sugarloaf Mountain, NC, (SUG) VORTAC. The BONZE, NC, WP replaces the Barretts Mountain, NC, (BZM) VOR/DME. The MCDON, VA, WP replaces the South Boston, VA, (SBV) VORTAC. As amended, T-224 extends between the Palacios, TX, (PSX) VORTAC, and the COLIN, VA, FIX.

T-258: T-258 currently extends between the MINIM, AL, FIX, and the CANER, GA, FIX. This amendment extends T-258 easterly to the GMINI, NC, FIX. T-258 overlies VOR Federal Airway V-66 between the CANER, GA, FIX, and the GMINI, NC, WP. In support of the transition from ground-based to satellite-based navigation, WPs are used to replace VORTACs in the T-258 route description as follows. The DAYVS, AL, WP replaces the Brookwood, AL, (OKW) VORTAC. The BRAVS, GA, WP replaces the La Grange, GA, (LGC) VORTAC. The UGAAA, GA, WP replaces the Athens, GA, (AHN) VORTAC. The HRTWL, SC, WP replaces the Greenwood, SC, (GRD) VORTAC. The GMINI, NC, WP replaces the Sandhills, NC, (SDZ) VORTAC. As amended, T-258 extends between the MINIM, AL, FIX, and the GMINI, NC, WP.

T-323: T-323 currently extends between the CROCS, GA, WP, and the Hazard, KY, (AZQ) DME. This amend extends T-323 southward from the CROCS, GA, WP to a new starting point at the MARQO, FL, WP (located adjacent to the Taylor, FL, (TAY) VORTAC). The DACEL, KY, WP replaces the Hazard DME as the route end point. The following WPs and one FIX are added to the route: LRSEY, GA; HELNN, NC; OCOEE, NC; CRECY, TN; and the KNITS, TN, FIX. The ZPPLN, NC; HIGGI, NC; and KIDBE, TN WPs are removed from the route. Contrary to the proposal in the NPRM, the ZADOT, TN; WELLA, KY; BOBBR, GA; and BIGNN, GA, WPs are retained in the T-323 route description. As amended, T-323 extends between the MARQO, FL, WP, and the DACEL, KY, WP.

T-404: T-404 is a new route that extends from the TYGRR, AL, WP, (60 feet northeast of the Eufaula, AL, (EUF) VORTAC), eastward to the CAYCE, SC, WP (60 feet west of the Columbia, SC, (CAE) VORTAC). T-404 overlies VOR Federal airway V-323 between the Eufaula VORTAC, and the Macon, GA, (MCN) VORTAC; and VOR Federal airway V-56 from the Macon, GA, (MCN) VORTAC to the Columbia, SC, (CAE) VORTAC. In T-404 description, the TYGRR WP replaces the Eufaula VORTAC. The NOKIE, GA, WP replaces the Macon VORTAC. The WANSA, SC, WP replaces the Colliers, SC, (IRQ) VORTAC. The CAYCE, SC, WP replaces the Columbia, SC, (CAE) VORTAC.

T-406: T-406 is a new route that extends from the KNZLY, LA, WP (replacing the Lake Charles, LA, (LCH) VORTAC), eastward to the DURBE, SC, WP (replacing the Allendale, SC, (ALD) VOR). The route essentially overlies VOR Federal airway V-70.

T-410: T-410 is a new route that extends from the existing SINCA, GA, FIX (located 23 nautical miles (NM) north of the Macon, GA, (MCN) VORTAC), eastward to the WANSA, SC, WP (replacing the Colliers, SC, (IRQ) VORTAC), then continuing to the existing WIDER, SC, FIX (located 21 NM northwest of the Columbia, SC, (CAE) VORTAC. T-410 overlies those segments of VOR Federal airway V-155 between the SINCA FIX and the WIDER FIX.

T-412: T-412 is a new route that extends from the KNZLY, LA, WP, (replacing the Lake Charles, LA, (LCH) VORTAC), eastward to the TIROE, GA, FIX (60 feet southwest of the Colliers, SC, (IRQ) VORTAC). The route overlies those segments of VOR Federal airway V-222 that extend between the Lake Charles VORTAC and the TIROE FIX.

T-414: T-414 is a new route that extends between the existing LOGEN, GA, FIX (located 29 NM northeast of the Atlanta, GA, (ATL) VORTAC), and the BOJAR, VA, FIX (.55 NM northwest of the Lynchburg, VA, (LYH) VORTAC). The route overlies those segments of VOR Federal airway V-222 that extend between the LOGEN FIX and the BOJAR FIX.

T-423: T-423 is a new route that extends between the STYLZ, NC, WP, (replacing the Sugarloaf Mountain, NC, (SUG) VORTAC), and the Charleston, WV, (HVQ) VOR/DME. The route overlies those segments of VOR Federal airway V-35 that extend between the Sugarloaf Mountain VORTAC, and the Charleston VORTAC.

T-425: T-425 is a new route that extends between the SIROC, GA, WP, (replacing the Brunswick, GA, (SSI) VORTAC), and the HUSKY, GA, FIX. The route overlies VOR Federal airway V-362 between the Brunswick VORTAC and the HABLE, GA, FIX. It overlies airway V-179 between the RIPPI, GA, FIX and the HUSKY, GA, FIX. T-425 also parallels V-179 between the CROCS, GA, WP and the RIPPI FIX. Additionally, it parallels VOR Federal airway V-267 between the HABLE, GA, FIX and the CROCS, GA, WP.

T-427: T-427 is a new route that extends from the CAYCE, SC, WP (replaces the Columbia, SC, (CAE) VORTAC), westward to the UGAAA, GA, WP (replaces the Athens, GA, (AHN) VORTAC), to the WOMAC, GA, FIX, and terminating at LOGEN, GA, FIX. The route overlies VOR Federal airway V-325.

T-429: T-429 is a new route that extends from the HOKES, AL, FIX (5 NM southeast of the Gadsden, AL, (GAD) VOR/DME) westward to the HAGIE, AL, WP (replaces the Muscle Shoals, AL, (MSL) VORTAC). T-429 overlies those segments of VOR Federal airway V-325 that extend between the Gadsden VOR/DME and the Muscle Shoals VORTAC.

The full legal descriptions of the above routes are listed in “The Amendment” section, below. These changes provide RNAV routing to supplement VOR Federal airways that will be impacted by the VOR MON program, and support the transition to a more efficient Performance Based Navigation route structure.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending 3 low altitude United States Area Navigation (RNAV) routes, designated T-224, T-258, T-323, and establishes 9 new low altitude RNAV routes, designated T-404, T-406, T-410, T-412, T-414, T-423, T-425, T-427, and T-429, in the eastern United States, in support of efforts to transition the NAS from ground-based to satellite-based navigation, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6011 United States Area Navigation Routes.

* * * * *

T-224 PALACIOS, TX (PSX) to COLIN, VA [Amended]
Palacios, TX (PSX) | VORTAC | (Lat. 28°45′51.93″ N, long. 096°18′22.25″ W)
MOLLR, TX | WP | (Lat. 29°39′20.23″ N, long. 095°16′35.83″ W)
SHWNN, TX | WP | (Lat. 29°56′45.94″ N, long. 094°00′57.73″ W)
WASPY, LA | FIX | (Lat. 30°01′33.88″ N, long. 093°38′50.45″ W)
KNZLY, LA | WP | (Lat. 30°08′29.48″ N, long. 093°06′19.37″ W)
DAFLY, LA | WP | (Lat. 30°11′37.70″ N, long. 091°59′33.94″ W)
KJAAY, LA | WP | (Lat. 30°05′15.06″ N, long. 090°35′19.73″ W)
SLIDD, LA | FIX | (Lat. 30°09′46.08″ N, long. 089°44′02.18″ W)
WTERS, MS | WP | (Lat. 30°24′24.36″ N, long. 089°04′37.04″ W)
LYNRD, AL | WP | (Lat. 30°43′33.26″ N, long. 088°21′34.07″ W)
AXEJA, AL | FIX | (Lat. 31°02′32.36″ N, long. 087°57′01.58″ W)
WIILL, AL | WP | (Lat. 31°27′33.96″ N, long. 087°21′08.62″ W)
MGMRY, AL | WP | (Lat. 32°13′20.78″ N, long. 086°19′11.24″ W)
GONDR, AL | WP | (Lat. 32°22′01.98″ N, long. 085°45′57.08″ W)
RSVLT, GA | WP | (Lat. 32°36′55.43″ N, long. 085°01′03.81″ W)
SINCA, GA | FIX | (Lat. 33°04′52.28″ N, long. 083°36′17.52″ W)
UGAAA, GA | WP | (Lat. 33°56′51.32″ N, long. 083°19′28.42″ W)
ECITY, SC | WP | (Lat. 34°25′09.62″ N, long. 082°47′04.58″ W)
STYLZ, NC | WP | (Lat. 35°24′22.83″ N, long. 082°16′07.01″ W)
BONZE, NC | WP | (Lat. 35°52′09.16″ N, long. 081°14′24.10″ W)
MCDON, VA | WP | (Lat. 36°40′29.56″ N, long. 079°00′52.03″ W)
NUTTS, VA | FIX | (Lat. 37°04′34.16″ N, long. 078°12′13.69″ W)
WAVES, VA | WP | (Lat. 37°35′13.54″ N, long. 077°26′52.03″ W)
TAPPA, VA | FIX | (Lat. 37°58′12.66″ N, long. 076°50′40.62″ W)
COLIN, VA | FIX | (Lat. 38°05′59.23″ N, long. 076°39′50.85″ W)
* * * * * * *
T-258 MINIM, AL to GMINI, NC [Amended]
MINIM, AL | FIX | (Lat. 33°32′31.14″ N, long. 088°02′23.62″ W)
CAYAP, AL | FIX | (Lat. 33°19′27.01″ N, long. 087°39′08.35″ W)
CRMSN, AL | WP | (Lat. 33°15′31.80″ N, long. 087°32′12.70″ W)
ZIVMU, AL | FIX | (Lat. 33°14′58.61″ N, long. 087°23′53.53″ W)
DAYVS, AL | WP | (Lat. 33°14′03.93″ N, long. 087°12′07.88″ W)
HEENA, AL | FIX | (Lat. 33°12′24.62″ N, long. 086°52′15.28″ W)
KYLEE, AL | FIX | (Lat. 33°09′41.04″ N, long. 086°21′57.72″ W)
CAMPP, AL | FIX | (Lat. 33°06′10.39″ N, long. 085°44′51.08″ W)
BRAVS, GA | WP | (Lat. 33°02′56.44″ N, long. 085°12′22.93″ W)
LANGA, GA | FIX | (Lat. 32°55′34.17″ N, long. 084°56′59.00″ W)
CANER, GA | FIX | (Lat. 32°45′21.48″ N, long. 084°35′51.42″ W)
SINCA, GA | FIX | (Lat. 33°04′52.28″ N, long. 083°36′17.52″ W)
UGAAA, GA | WP | (Lat. 33°56′51.32″ N, long. 083°19′28.42″ W)
HRTWL, SC | WP | (Lat. 34°15′05.33″ N, long. 082°09′15.55″ W)
NATCH, NC | FIX | (Lat. 35°01′34.52″ N, long. 080°06′29.28″ W)
GMINI, NC | WP | (Lat. 35°12′23.01″ N, long. 079°34′01.98″ W)
* * * * * * *
T-323 MARQO, FL to DACEL, KY [Amended]
MARQO, FL | WP | (Lat. 30°30′53.57″ N, long. 082°32′45.62″ W)
LRSEY, GA | WP | (Lat. 31°16′09.34″ N, long. 082°33′23.20″ W)
CROCS, GA | WP | (Lat. 32°27′17.69″ N, long. 082°46′29.06″ W)
BOBBR, GA | WP | (Lat. 33°19′57.07″ N, long. 083°08′19.47″ W)
BIGNN, GA | WP | (Lat. 34°20′34.38″ N, long. 083°33′06.80″ W)
HELNN, NC | WP | (Lat. 35°00′55.11″ N, long. 083°52′09.85″ W)
OCOEE, NC | WP | (Lat. 35°07′34.11″ N, long. 083°53′45.00″ W)
KNITS, TN | FIX | (Lat. 35°41′01.18″ N, long. 083°53′58.56″ W)
CRECY, TN | WP | (Lat. 35°58′52.61″ N, long. 083°38′24.36″ W)
ZADOT, TN | WP | (Lat. 36°35′32.17″ N, long. 083°28′40.09″ W)
WELLA, KY | WP | (Lat. 37°02′15.68″ N, long. 083°21′31.07″ W)
DACEL, KY | WP | (Lat. 37°23′10.68″ N, long. 083°14′52.13″ W)
* * * * * * *
T-404 TYGRR, AL to CAYCE, SC [New]
TYGRR, AL | WP | (Lat. 31°57′01.21″ N, long. 085°07′49.13″ W)
NOKIE, GA | WP | (Lat. 32°41′28.86″ N, long. 083°38′49.88″ W)
WANSA, SC | WP | (Lat. 33°42′26.10″ N, long. 082°09′43.99″ W)
CAYCE, SC | WP | (Lat. 33°51′26.13″ N, long. 081°03′14.76″ W)
* * * * * * *
T-406 KNZLY, LA to DURBE, SC [New]
KNZLY, LA | WP | (Lat. 30°08′29.48″ N, long. 093°06′19.37″ W)
DAFLY, LA | WP | (Lat. 30°11′37.70″ N, long. 091°59′33.94″ W)
RCOLA, LA | WP | (Lat. 30°29′06.52″ N, long. 091°17′37.96″ W)
PELLO, MS | WP | (Lat. 30°33′40.17″ N, long. 089°43′50.44″ W)
GARTS, MS | WP | (Lat. 31°05′52.39″ N, long. 088°29′10.68″ W)
WIILL, AL | WP | (Lat. 31°27′33.96″ N, long. 087°21′08.62″ W)
RUTEL, AL | FIX | (Lat. 31°42′57.69″ N, long. 086°21′36.33″ W)
TYGRR, AL | WP | (Lat. 31°57′01.21″ N, long. 085°07′49.13″ W)
DOOLY, GA | WP | (Lat. 32°12′48.02″ N, long. 083°29′50.66″ W)
DURBE, SC | WP | (Lat. 33°00′44.75″ N, long. 081°17′32.69″ W)
* * * * * * *
T-410 SINCA, GA to WIDER, SC [New]
SINCA, GA | FIX | (Lat. 33°04′52.28″ N, long. 083°36′17.52″ W)
WANSA, SC | WP | (Lat. 33°42′26.10″ N, long. 082°09′43.99″ W)
WIDER, SC | FIX | (Lat. 34°09′27.05″ N, long. 081°16′26.39″ W)
* * * * * * *
T-412 KNZLY, LA to TIROE, GA [New]
KNZLY, LA | WP | (Lat. 30°08′29.48″ N, long. 093°06′19.37″ W)
ICEKI, MS | WP | (Lat. 31°18′16.12″ N, long. 090°15′28.85″ W)
SSLAW, MS | WP | (Lat. 31°25′07.18″ N, long. 089°20′16.05″ W)
WIILL, AL | WP | (Lat. 31°27′33.96″ N, long. 087°21′08.62″ W)
MGMRY, AL | WP | (Lat. 32°13′20.78″ N, long. 086°19′11.24″ W)
HHRVY, AL | WP | (Lat. 32°57′47.52″ N, long. 085°19′35.23″ W)
BRAVS, GA | WP | (Lat. 33°02′56.44″ N, long. 085°12′22.93″ W)
TIROE, GA | FIX | (Lat. 33°18′23.23″ N, long. 084°51′57.71″ W)
* * * * * * *
T-414 LOGEN, GA to BOJAR, VA [New]
LOGEN, GA | FIX | (Lat. 33°59′16.98″ N, long. 084°03′24.43″ W)
MILBY, SC | WP | (Lat. 34°41′02.23″ N, long. 083°18′42.53″ W)
STYLZ, NC | WP | (Lat. 35°24′22.83″ N, long. 082°16′07.01″ W)
BONZE, NC | WP | (Lat. 35°52′09.16″ N, long. 081°14′24.10″ W)
AYARA, VA | FIX | (Lat. 37°03′40.36″ N, long. 079°31′24.92″ W)
BOJAR, VA | FIX | (Lat. 37°15′43.97″ N, long. 079°14′33.36″ W)
* * * * * * *
T-423 STYLZ, NC to CHARLESTON, WV (HVQ) [New]
STYLZ, NC | WP | (Lat. 35°24′22.83″ N, long. 082°16′07.01″ W)
HORAL, TN | WP | (Lat. 36°26′13.99″ N, long. 082°07′46.48″ W)
GAUZY, VA | WP | (Lat. 36°49′29.79″ N, long. 082°04′44.40″ W)
Charleston, WV (HVQ) | VOR/DME | (Lat. 38°20′58.83″ N, long. 081°46′11.69″ W)
* * * * * * *
T-425 SIROC, GA to HUSKY, GA [New]
SIROC, GA | WP | (Lat. 31°03′02.32″ N, long. 081°26′45.89″ W)
HABLE, GA | FIX | (Lat. 31°21′09.68″ N, long. 082°06′09.96″ W)
CROCS, GA | WP | (Lat. 32°27′17.69″ N, long. 082°46′29.06″ W)
RIPPI, GA | FIX | (Lat. 32°54′20.25″ N, long. 083°20′19.52″ W)
WEMOB, GA | FIX | (Lat. 33°16′06.20″ N, long. 083°53′01.92″ W)
HUSKY, GA | FIX | (Lat. 33°19′49.65″ N, long. 083°58′48.75″ W)
* * * * * * *
T-427 CAYCE, SC to LOGEN, GA [New]
CAYCE, SC | WP | (Lat. 33°51′26.13″ N, long. 081°03′14.76″ W)
UGAAA, GA | WP | (Lat. 33°56′51.32″ N, long. 083°19′28.42″ W)
WOMAC, GA | FIX | (Lat. 34°07′48.86″ N, long. 083°54′20.77″ W)
LOGEN, GA | FIX | (Lat. 33°59′16.98″ N, long. 084°03′24.43″ W)
* * * * * * *
T-429 HOKES, SC to HAGIE, AL [New]
HOKES, AL | FIX | (Lat. 33°55′30.08″ N, long. 085°59′33.20″ W)
HAGIE, AL | WP | (Lat. 34°42′25.87″ N, long. 087°29′29.76″ W)

* * * * *

Issued in Washington, DC, on May 5, 2022.
Scott M. Rosenbloom,
Manager, Airspace Rules and Regulations.

[FR Doc. 2022-10315 Filed 5-12-22; 8:45 am]

BILLING CODE 4910-13-P